FEDERAL RETIREMENT THRIFT INVESTMENT

Board Member Meeting

77 K Street NE, 10th Floor, Washington, DC 20002

January 27, 2020, 8:30 a.m.

Open Session

1. Approval of the December 16, 2019 Board Meeting Minutes

2. Monthly Reports

(a) Participant Activity Report

(b) Legislative Report

3. Quarterly Reports

(c) Investment Policy

(d) Audit Status

(e) Budget Review

4. Annual Expense Ratio Review

5. Internal Audit Update

6. Participant Outreach

Closed Session

Information covered under 5 U.S.C. 552b(c)(4) and (c)(9)(b).

CONTACT PERSON FOR MORE INFORMATION: Kimberly Weaver, Director, Office of External Affairs, (202) 942-1640.

Dated: January 15, 2020.
Megan Grumbine,
General Counsel, Federal Retirement Thrift Investment Board.

[FR Doc. 2020-00927 Filed 1-21-20; 8:45 am]

BILLING CODE 6760-01-P